PUBLIC BUILDINGS REFORM BOARD

Notice of Public Meeting: Progress on Selling the High Value Assets and Preparations for the Upcoming First Round of Recommendations, etc.

AGENCY: Public Buildings Reform Board.

ACTION: Notice of public meeting.

SUMMARY: As provided by the Federal Assets Sale and Transfer Act of 2016 (FASTA), the Public Buildings Reform Board (PBRB) is holding a meeting to discuss its progress on the High Value Asset Round and preparations for the upcoming First Round of sales, consolidations, property disposals, and redevelopment recommendations.

DATES: The meeting is scheduled for Thursday, October 1st, 2020, from 2:00 p.m. to 4:00 p.m. (Eastern Daylight Time).

ADDRESSES: Due to public health concerns driven by the COVID-19 pandemic, this meeting will be open to the public virtually via WebEx video conferencing. Interested participants must register to attend for the public meeting via this link: https://jllmeet.webex.com/jllmeet/onstage/g.php?MTID=e56b82ebae21118cbb2919c9853546c19.

Those who require special assistance or accommodations in order to attend must contact the PBRB Team at fastainfo@pbrb.gov at least 12 days prior to the event.

FOR FURTHER INFORMATION CONTACT: Questions and comments can be forwarded to the PBRB Team by email at fastainfo@pbrb.gov. Or you may contact Courtney Johnson at (301) 357-3981 or courtney.d.johnson@pbrb.gov.

SUPPLEMENTARY INFORMATION:

Background

FASTA created the PBRB as an independent Board to identify opportunities for the Federal government to significantly reduce its inventory of civilian real property and thereby reduce costs. The Board is directed, within 6 months of its formation, to recommend to the Office of Management and Budget (OMB) the sale of not fewer than five properties not on the list of surplus or excess with a fair market value of not less than $500 million and not more than $750 million. In two subsequent rounds over a five-year period, the Board is responsible for making recommendations for other sales, consolidations, property disposals or redevelopment of up to $7.25 billion in value.

Format and Registration

The format for the meeting will be panel discussions with appropriate time allowed for a Q&A segment. Interested participants must register to attend for the public meeting via this link: https://jllmeet.webex.com/jllmeet/onstage/g.php?MTID=e56b82ebae21118cbb2919c9853546c19.

Those who require special assistance or accommodations in order to attend must contact the PBRB Team at fastainfo@pbrb.gov at least 12 days prior to the event.

Portions of the meeting may be held in executive session if the Board is considering issues involving classified or proprietary information.

A transcript of the public meeting will be available at pbrb.gov following the session.

If you have any additional questions please email fastainfo@pbrb.gov.

Authority: Pub. L. 114-287, 130 Stat 1463.

Courtney Johnson,
Federal Register Liaison, Public Buildings Reform Board.

[FR Doc. 2020-20175 Filed 9-11-20; 8:45 am]

BILLING CODE P